DEPARTMENT OF HEALTH AND HUMAN SERVICES

Administration for Community Living

Agency Information Collection Activities: Submission for OMB Review; Comment Request; University Centers for Excellence in Developmental Disabilities Education, Research, and Service—Annual Report

AGENCY: Administration for Community Living, HHS.

ACTION: Notice.

SUMMARY: The Administration on Intellectual and Developmental Disabilities (AIDD), Administration for Community Living (ACL) is announcing an opportunity to comment on the proposed collection of information by the agency. Under the Paperwork Reduction Act of 1995 (the PRA), Federal agencies are required to publish notice in the Federal Register concerning each proposed collection of information, including each proposed extension of an existing collection of information, and to allow 60 days for public comment in response to the notice. This notice collects comments on the information collection requirements relating to the continuation of an existing collection for University Centers for Excellence in Developmental Disabilities Education, Research, and Service.

DATES: Submit written comments on the collection of information by August 1, 2016.

ADDRESSES: Submit written comments on the collection of information by email to Valerie.Bond@acl.hhs.gov.

FOR FURTHER INFORMATION CONTACT: Valerie Bond by email at Valerie.Bond@acl.hhs.gov or 202.795-7311.

SUPPLEMENTARY INFORMATION: Section 104 (42 U.S.C. 15004) of the Developmental Disabilities Assistance and Bill of Rights Act of 2000 (DD Act of 2000) directs the Secretary of Health and Human Services to develop and implement a system of program accountability to monitor the grantees funded under the DD Act of 2000. The program accountability system shall include the National Network of University Centers for Excellence in Developmental Disabilities Education, Research, and Service (UCEDDs) authorized under Part D of the DD Act of 2000. In addition to the accountability system, Section 154(e) (42 U.S.C. 15064) of the DD Act of 2000 includes requirements for a UCEDD Annual Report.

ACL estimates the burden of this collection of information as follows:

Annual Burden Estimates

Annual Burden Estimates
Instrument | Number of respondents | Number of responses per respondent | Average burden hours per response | Total burden hours
UCEDD Annual Report | 67 | 1 | 1,412 | 94,604

Estimated Total Annual Burden Hours: 94,604.

Dated: May 25, 2016.
Kathy Greenlee,
Administrator & Assistant Secretary for Aging.

[FR Doc. 2016-13020 Filed 6-1-16; 8:45 am]

BILLING CODE 4154-01-P